FEDERAL COMMUNICATIONS COMMISSION

47 CFR Parts 2, 22, 24, 74, 78 and 90

[WT Docket No. 02-55; ET Docket No. 00-258; ET Docket No. 95-18; RM-9498; RM-10024; FCC 04-168]

Improving Public Safety Communications in the 800 MHz Band

AGENCY: Federal Communications Commission.

ACTION: Final rule; petitions for reconsideration.

SUMMARY: This document lists Petitions for Reconsideration filed on or shortly before December 22, 2004, in the 800 MHz Public Safety Interference Proceeding, and establishes deadlines for the filing of Oppositions to the Petitions for Reconsideration and Replies to the Oppositions.

DATES: Submit Oppositions to the Petitions for Reconsideration listed below April 21, 2005. Submit Replies to Oppositions to the Petitions for Reconsideration May 2, 2005.

ADDRESSES: All filings must be addressed to the Commission's Secretary, Marlene H. Dortch, Office of the Secretary, Federal Communications Commission, 445 12th Street, SW., Suite TW-A325, Washington, DC 20554. One (1) courtesy copy must be delivered to Ramona Melson, Esq. at the Federal Communications Commission, Wireless Telecommunications Bureau, Public Safety and Critical Infrastructure Division, 445 12th Street, SW., Suite 3-A465, Washington, DC 20554, or via e-mail, ramona.melson@fcc.gov, and one (1) copy must be sent to Best Copy and Printing, Inc., Portals II, 445 12th Street, SW., Room CY-B402, Washington, DC 20554, telephone 1-800-378-3160, or via e-mail http://www.bcpiweb.com.

FOR FURTHER INFORMATION CONTACT: Ramona Melson, Esq., Public Safety and Critical Infrastructure Division, Wireless Telecommunications Bureau at (202) 418-0680 or via the Internet at ramona.melson@fcc.gov.

SUPPLEMENTARY INFORMATION: In the 800 MHz Report and Order, the Commission adopted technical and procedural rules designed to address the ongoing and growing problem of interference to public safety communications in the 800 MHz band. A summary of the 800 MHz Report and Order and final rules were published in the Federal Register on November 22, 2004 (69 FR 67823). Petitions for Reconsideration of the 800 MHz Report and Order were due by December 22, 2004. A Notice announcing the receipt of Petitions for Reconsideration was published in the Federal Register on February 2, 2005 (70 FR 5449). This document lists Petitions for Reconsideration filed on or shortly before December 22, 2004, in the 800 MHz Public Safety Interference Proceeding.

On December 22, 2004, the Commission adopted a Supplemental Order and Order on Reconsideration in which it clarified and changed certain provisions of the 800 MHz Report and Order. A summary of the Supplemental Order and Order on Reconsideration was published in the Federal Register on February 8, 2005 (70 FR 6758). On February 14, 2005, the Public Safety and Critical Infrastructure Division deferred the dates for the filing of oppositions and replies to the petitions for reconsideration of the 800 MHz Report and Order in order to make these dates consistent with the dates for filing similar pleadings relative to the Supplemental Order and Order on Reconsideration. The Division deferred the dates to enhance the Commission's consideration of the issues in this proceeding by permitting receipt of a cohesive, informed record for the Commission's review and to promote efficiency.

Specifically, the Division deferred the date for filing oppositions to the petitions for reconsideration of the 800 MHz Report and Order until fifteen days after Federal Register publication of notice of receipt of petitions for reconsideration of the 800 MHz Supplemental Order and Order on Reconsideration, in this proceeding. The date for filing replies to an opposition to the petitions for reconsideration of the 800 MHz Report and Order shall be within ten days after the time for filing oppositions has expired. In a companion document published in this issue, the Commission announces the receipt of Petitions for Reconsideration to the 800 MHz Supplemental Order and Order on Reconsideration.

The following parties have filed Petitions for Reconsideration of the 800 MHz Report and Order:

1. Thomas J. Keller, Attorney for Association of American Railroads on 12/17/04.

2. David B. Trego and Jason D. Griffith for American Electric Power Company, Inc. on 12/21/04.

3. Julian L. Shepard, Attorney for Coastal SMR Network, L.L.C./A.R.C., Inc. and Scott C. Macintyre on 12/22/04.

4. Shirley S. Fujimoto, Attorney for Entergy Corporation and Entergy Services, Inc. on 12/22/04.

5. Robert S. Foosaner for Nextel Communications, Inc. on 12/22/04.

6. William K. Keane for the National Association of Manufacturers and MRFAC, Inc. on 12/22/04.

7. Harold Mordkofsky, Attorney for Consolidated Edison Company of New York, Inc. on 12/22/04.

8. Gregory C. Staple, Attorney for TMI Communications and Company, Limited Partnership and Terrestar Networks Inc. on 12/22/04.

9. Christine M. Gill, Attorney for Southern LINC on 12/22/04.

10. Michael K. Kurtis, Attorney for Anderson Communications on 12/22/04.

11. William J. Donohue for Exelon Corporation on 12/22/04.

12. Charles D. Guskey on 12/22/04.

13. Robert J. Keller for James A. Kay, Jr. on 12/22/04.

14. Christopher Guttman-McCabe, Attorney for CTIA-The Wireless Association on 12/22/04.

15. Charles M. Austin for Preferred Communication Systems, Inc., and Kent S. Foster for Silver Palm Communications, Inc. on 12/22/04.

The Commission will not send a copy of this document pursuant to the Congressional Review Act, 5 U.S.C. 801(a)(1)(A), because no adopted rules are attached. This document concerns the applicable dates for filing replies and oppositions to the petitions for reconsideration in the 800 MHz proceeding.

Federal Communications Commission.
Ramona Melson,
Chief of Staff, Public Safety and Critical Infrastructure Division, WTB.

[FR Doc. 05-6806 Filed 4-5-05; 8:45 am]

BILLING CODE 6712-01-P